FEDERAL COMMUNICATIONS COMMISSION

47 CFR Parts 1 and 25

[IB Docket No. 02-34; FCC 04-92]

Space Station Licensing Rules and Policies

AGENCY: Federal Communications Commission.

ACTION: Final rule, announcement of effective date.

SUMMARY: The Commission adopted rule revisions to extend mandatory electronic filing to all satellite and earth station applications. Certain rules contained new or modified information requirements and were published in the Federal Register on August 6, 2004. This document announces the effective date of these published rules. 47 CFR 25.110, 25.114, 25.115, 25.116, 25.117, 25.118(a), 25.130, 25.131, 25.154.

DATES: The revisions to §§ 25.110, 25.114, 25.115, 25.116, 25.117, 25.118(a), 25.130, 25.131, and 25.154, published at 69 FR 47790, August 6, 2004, became effective August 24, 2004.

FOR FURTHER INFORMATION CONTACT: Steven Spaeth, Satellite Division, International Bureau, at (202) 418-1539.

SUPPLEMENTARY INFORMATION: On August 24, 2004, the Office of Management and Budget (OMB) approved the information collection requirement contained in §§ 25.110, 25.114, 25.115, 25.116, 25.117, 25.118(a), 25.130, 25.131, and 25.154, pursuant to OMB Control No. 3060-0678.

Accordingly, the information collection requirement contained in these rules became effective on August 24, 2004.

Federal Communications Commission.
Marlene H. Dortch,
Secretary.

[FR Doc. 04-20786 Filed 9-14-04; 8:45 am]

BILLING CODE 6712-01-P